DEPARTMENT OF VETERANS AFFAIRS

[OMB Control No. 2900-0068]

Agency Information Collection Under OMB Review: Application for Service-Disabled Veterans Insurance

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before March 26, 2018.

ADDRESSES: Submit written comments on the collection of information through www.Regulations.gov, or to Office of Information and Regulatory Affairs, Office of Management and Budget, Attn: VA Desk Officer; 725 17th St. NW, Washington, DC 20503 or send through electronic mail to oira_submission@omb.eop.gov. Please refer to “OMB Control No. 2900-0068” in any correspondence.

FOR FURTHER INFORMATION CONTACT: Cynthia Harvey-Pryor, Enterprise Records Service (005R1B), Department of Veterans Affairs, 810 Vermont Avenue NW, Washington, DC 20420, (202) 461-5870 or email cynthia.harvey-pryor@va.gov. Please refer to “OMB Control No. 2900-0068” in any correspondence.

SUPPLEMENTARY INFORMATION:

Authority: Pub. L. 104-13; 44 U.S.C. 3501-3521.

Title: Application for Service-Disabled Veterans Insurance, VA Form 29-4364 and VA Form 29-0151.

OMB Control Number: 2900-0068.

Type of Review: Reinstatement of a previously approved collection.

Abstract: These forms are used by veterans to apply for Service-Disabled Veterans Insurance, to designate a beneficiary and to select an optional settlement.

The Federal Register Notice with a 60-day comment period soliciting comments on this collection of information was published at 82 FR 229 on November 30, 2017, pages 56857-56858.

Affected Public: Individuals and Households.

Estimated Annual Burden: 8,333 hours.

Estimated Average Burden per Respondent: 20 minutes.

Frequency of Response: On occasion.

Estimated Number of Respondents: 25,000 respondents.

By direction of the Secretary.
Cynthia Harvey-Pryor,
Department Clearance Officer, Office of Quality, Privacy and Risk, Department of Veterans Affairs.

[FR Doc. 2018-03584 Filed 2-21-18; 8:45 am]

BILLING CODE 8320-01-P